DEPARTMENT OF AGRICULTURE

Agricultural Marketing Service

7 CFR Part 991

[Docket No. AO-F&V-991-A3; FV03-991-01]

Hops Produced in Washington, Oregon, Idaho and California; Proposed Marketing Agreement and Order No. 991; Opportunity To File Additional Argument

AGENCY: Agricultural Marketing Service, USDA.

ACTION: Proposed rule; opportunity to file additional argument on representative period for proposed marketing agreement and order.

SUMMARY: This notice provides the opportunity to file additional argument relating to the establishment of an appropriate representative base period for the allocation of initial base under a proposed marketing agreement and order concerning hops grown in Washington, Oregon, Idaho and California. The proposal to establish a hop marketing order was submitted by the Hop Marketing Order Proponent Committee (committee), a group of industry members who support a marketing order for hops. A public hearing on the proposal was held in October 2003, where USDA heard testimony and received evidence from industry participants. This invitation for additional argument is intended to assist USDA in its further consideration of the proposal before rendering a recommended decision.

DATES: Written arguments must be filed by March 28, 2005.

ADDRESSES: Four copies of all written arguments should be filed with the Hearing Clerk, U.S. Department of Agriculture, room 1081-S, Washington, DC 20250-9200, Facsimile number (202) 720-9776, or you may send your comments by the electronic process available at the Federal eRulemaking portal at http://www.regulations.gov. All comments should reference the docket number and the date and page number of this issue of the Federal Register. Comments will be made available for public inspection in the Office of the Hearing Clerk during regular business hours, or can be viewed at: http://www.ams.usda.gov/fv/moab.html.

FOR FURTHER INFORMATION CONTACT: Barry Broadbent, Marketing Specialist, Marketing Order Administration Branch, Fruit and Vegetable Programs, AMS, USDA, Northwest Marketing Field Office, 1220 SW. Third Avenue, Suite 385, Portland, Oregon 97204; Telephone (503) 326-2724 or Fax (503) 326-7440; or Kathleen M. Finn, Marketing Order Administration Branch, Fruit and Vegetable Programs, AMS, USDA, 1400 Independence Avenue, SW., Stop 0237, Washington, DC 20250-0237; Telephone: (202) 720-2491, Fax: (202) 720-8938.

Small businesses may request information on this proceeding by contacting Jay Guerber, Marketing Order Administration Branch, Fruit and Vegetable Programs, AMS, USDA, 1400 Independence Avenue, SW., Stop 0237, Washington, DC 20250-0237; Telephone: (202) 720-2491, Fax: (202) 720-8938.

SUPPLEMENTARY INFORMATION: Prior documents in this proceeding: Notice of Hearing issued on July 23, 2003, and published in the July 28, 2003, issue of the Federal Register (68 FR 44244); Notice of postponement of public hearing on proposed marketing agreement and order issued on August 8, 2003, and published in the August 14, 2003, issue of the Federal Register (68 FR 48575); Notice of rescheduling of public hearing on proposed marketing agreement and order issued on September 3, 2003, and published in the September 8, 2003, issue of the Federal Register (68 FR 52860).

This administrative action is instituted pursuant to the Agricultural Marketing Agreement Act of 1937, as amended (7 U.S.C. 601-674), hereinafter referred to as the “Act.” This action is governed by the provisions of sections 556 and 557 of title 5 of the United States Code and, therefore, is excluded from the requirements of Executive Order 12866.

A public hearing on the proposed marketing agreement and order for hops produced in Washington, Oregon, Idaho, and California was held October 15 through 17, 2003, in Portland, Oregon and October 20 through 24, 2003, in Yakima, Washington.

The proposed marketing order would authorize volume control measures in the form of producer allotments to regulate the marketing of alpha acid in hops in the production area. Alpha acid is the bittering agent used in brewing beer that is the primary marketable component of hops. Under producer allotment programs, the means for allocating the annual salable quantity is to establish an allotment base for each producer. This base is established in terms of prior production during a representative period.

At the hearing, the Proponents recommended a representative base period of the marketing years 1997, 1998, 1999, 2000, 2001, and 2002. Individual allotment base would be based on each hop producer's single highest alpha acid production year during the 6-year period. Each producer's annual alpha acid production during the representative period would be calculated based on the producer's hop production volume for each variety and the alpha acid percentage for each variety grown.

The hearing record also contained testimony supporting a representative base period using more recent years. Base allotments would be calculated using the six marketing years immediately preceding any eventual implementation of a marketing order as the representative base period.

This opportunity allows interested persons to provide additional argument on two alternative representative base periods: (1) 1997 through 2002; and (2) the six most recent crop years preceding the implementation of any order. A thirty-day period is provided to allow interested persons to respond. USDA then will consider these arguments before issuing a recommended decision on the proposal.

(Authority: 7 U.S.C. 601-674)
Dated: February 16, 2005.
Kenneth C. Clayton,
Acting Administrator, Agricultural Marketing Service.

[FR Doc. 05-3481 Filed 2-23-05; 8:45 am]

BILLING CODE 3410-02-U